DEPARTMENT OF COMMERCE

National Oceanic and Atmospheric Administration

50 CFR Part 600

[I.D. 052301A]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: The Administrator, Northeast Region, NMFS (Regional Administrator) has made a preliminary determination that the subject exempted fishing permit (EFP) application contains all the required information and warrants further consideration. The Regional Administrator has also made a preliminary determination that the activities authorized under the EFP would be consistent with the goals and objectives of the Multispecies Fishery Management Plan (Multispecies FMP). However, further review and consultation may be necessary before a final determination is made to issue EFPs. Therefore, NMFS announces that the Regional Administrator proposes to issue EFPs that would allow up to seven vessels to conduct fishing operations otherwise restricted by the regulations governing the fisheries of the Northeastern United States. EFPs would allow for exemptions to gear restrictions and to the Day-at-Sea (DAS) requirements of the Northeast Multispecies Fishery Management Plan (Multispecies FMP). The experiment proposes to compare two experimental trawl net configurations (diamond and square codend mesh sizes, finfish excluder devise (grate bar spacings) and raised footrope trawl)) to selectively fish for silver hake or whiting (Merluccius bilinearis), while maintaining low levels of regulated multispecies bycatch.

Regulations under the Magnuson-Stevens Fishery Conservation and Management Act require publication of this notification to provide interested parties the opportunity to comment on applications for proposed EFPs.

DATES: Comments on this document must be received on or before June 19, 2001.

ADDRESSES: Written comments should be sent to Patricia A. Kurkul, Regional Administrator, NMFS, Northeast Regional Office, 1 Blackburn Drive, Gloucester, MA 01930. Mark the outside of the envelope “Comments on EFP Proposal.” Comments may also be sent via facsimile (fax) to (978) 281-9135.

FOR FURTHER INFORMATION CONTACT: Bonnie Van Pelt, Fishery Management Specialist, 978-281-9244.

SUPPLEMENTARY INFORMATION: The Maine Division of Marine Resources (MEDMR) submitted an application for EFPs on April 9, 2001, with final revisions received on May 9, 2001. The EFPs would facilitate the collection of data on experimental gear performance for use in addressing whiting conservation issues (juvenile whiting bycatch) and reductions in regulated multispecies bycatch in the Gulf of Maine whiting fishery (Maine whiting fishery). The study also intends to present the findings of the data from the experiment to the New England Fishery Management Council (NEFMC) for its consideration when evaluating year four default measures and long-term management options for the whiting resource.

The experiment would occur within a portion of the Gulf of Maine/Georges Bank Regulated Mesh Area (GOM/GB RMA), well within the Northern Shrimp Small Mesh Exemption Area; specifically, the three 10-minute squares north of 43°30′ latitude and between 69° W. longitude and 70°30′ W. longitude. The experimental fishing area would exclude any seasonal or year-round closures overlapping it in time or area and would operate for three months, beginning in early July through the end of September 2001. Field testing of the proposed gear modification through the initial gear trials would take place for approximately a month beginning in July 2001, while the commercial gear trials would begin in August 2001 and extend through September 2001, to allow for weather contingencies and to capture seasonal variability in target species distribution and abundance.

The experiment intends to build on previous gear studies (i.e, a gear testing component of the traditional Separator Trawl Whiting Experimental Fishery) that were conducted to test and assess gear selectivity factors designed to address bycatch issues in the Maine whiting fishery. The main purpose of the three-phase study is as follows: (1) To obtain better video footage of the gear and its interactions with fish and habitat (singular and combined effects); (2) to test 2-1/2-inch (6.35-cm) diamond cod end mesh and 2-1/4-inch (5.72-cm) square cod end mesh with 2-inch (50-mm) grate bar spacings in combination with 42-inch (106.68-cm) dropper chains on a raised footrope trawl net configuration, against control nets of 1-3/4-inch (4.45-cm) codend mesh and 1.6-inch (40-mm) grate bar spacing; and (3) sea trials of the most efficient gear combinations under commercial fishing conditions with members of industry providing feedback on gear performance (the focus being to develop the industry’s acceptance of the gear for general use in the whiting fishery).

Two vessels would participate in the initial gear testing phase that proposes to test the two experimental gear combinations against a control trawl net; while one combination may fish more effectively for flatfish, the other may exclude smaller silver hake. The remaining five vessels would participate in the final phase of the experiment to ensure that the gear combinations perform the same under commercial conditions, as when tested against the control trawl net. The sea trial phase would also provide opportunities for commercial fishers to gain familiarity with the chosen gear’s selective properties under normal fishing operations. A component of the experiment will video record the gear performance under tow including gear interactions with fish and habitat.

The entire field work will require 260 total hours of towing; initial gear trials would entail 60 total hours trawling activity (10 days paired towing with 6-half hour tows per day for each of two vessels), followed by 200 total hours of towing during the commercial sea trials phase (4 days each for 5 vessels towing an average of 10 hours per day). Projected whiting landings from MEDMR sea sampling data during July and August 1999, are estimated at upper catch rates of between 15,800 lb and 26,400 lb of whiting per trip (based upon an average catch per unit effort of between 790 lb and 1,320 lb per trip). Lower catch rates are estimated at 42 lb/trip or 860 lb total catch for the 20 total commercial gear trial trips. These catch levels are well within the possession/landing limits for vessels using small mesh within the GOM/GB RMA. Thus, the experimental gear trials are expected to have very little incremental impact on the whiting resource.

Participants may retain whiting and Atlantic herring (Clupea harengus) for commercial sale up to the applicable landing limits during the initial testing phase, while whiting, and to a lesser extent, red hake (Urophycis chuss) and Atlantic herring will be the target species during the commercial sea trial phase. MEDMR sea sampling data from the September 1999 directed whiting fishery indicate that the incidental catch species (red hake and herring included) comprise approximately 36% of the total whiting catch (0.36 lb per pound of whiting).

Historically, the Maine whiting fishery, through its use of the separator trawl (the control gear in this experiment), has experienced low levels of regulated species bycatch. However, one of the objectives of the experiment is to demonstrate that the proposed gear combinations of separator grate, mesh size and raised footrope trawl configuration can selectively fish for whiting, while avoiding impacts on regulated finfish species. The applicant notes that the proportion of bycatch to the total catch (percent bycatch) may exceed acceptable levels when target species catch rates are low. Nonetheless, the applicant expects that the average bycatch levels will not exceed acceptable thresholds.

Each commercial trial trip will have a MEDMR sea sampler on board and the catch will be measured according to NMFS sea sampling methodology and recorded on NMFS logbooks. Any sub-legal sized fish would be processed by the sea samplers (e.g., measured) and returned immediately to the water.

The applicant plans to conduct public outreach meetings to present the gear research findings to the remainder of the fleet that did not participate in the experimental fishery. It is intended that the results of this gear work will be the basis for a request to the NEFMC for a Maine whiting fishery within an appropriate area and under certain gear restrictions.

EFPs would exempt up to seven vessels from the DAS requirements and gear restrictions of the Multispecies FMP found at 50 CFR part 648, subpart F.

Authority: 16 U.S.C. 1801 et seq.

Dated: May 29, 2001.
Bruce C. Morehead,
Acting Director, Office of Sustainable Fisheries,National Marine Fisheries Service.

[FR Doc. 01-13971 Filed 6-1-01; 8:45 am]

BILLING CODE 3510-22-S